ENVIRONMENTAL PROTECTION AGENCY

[EPA-HQ-OAR-2009-0548; FRL-9821-8]

Proposed Information Collection Request; Comment Request; Exhaust Emissions of Light-Duty Vehicles in Metropolitan Detroit; EPA ICR No. 2363.02

AGENCY: Environmental Protection Agency (EPA).

ACTION: Notice.

SUMMARY: The Environmental Protection Agency is planning to submit an information collection request (ICR), “Exhaust Emissions of Light-duty Vehicles in Metropolitan Detroit” (EPA ICR No. 2363.02, OMB Control No. 2060-0645) to the Office of Management and Budget (OMB) for review and approval in accordance with the Paperwork Reduction Act (44 U.S.C. 3501 et seq.). Before doing so, EPA is soliciting public comments on specific aspects of the proposed information collection as described below. This is a proposed extension of the ICR, which is currently approved through October 31, 2013. An Agency may not conduct or sponsor and a person is not required to respond to a collection of information unless it displays a currently valid OMB control number.

DATES: Comments must be submitted on or before August 6, 2013.

ADDRESSES: Submit your comments, referencing Docket ID No. EPA-HQ-OAR-2009-0548, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: James Warila, Assessment and Standards Division, Office of Transportation and Air Quality, (AADTC), Environmental Protection Agency, 1200 Pennsylvania Ave. NW., Washington, DC 20460; telephone number: 734-214-4951; fax number: 734-214-4821; email address: warila.james@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The EPA is initiating a systematic data collection designed to improve the methods and tools used by the Agency to estimate exhaust emissions as vehicles age. Data to be collected include vehicle type, vehicle characteristics, and measurement of exhaust emissions.

One of the main issues in the study of vehicle emissions is the difficulty in acquiring representative results. Major challenges include the diversity of technology, the highly variable nature of emissions, the complexity and expense of measurement, difficulty in acquiring and retaining engines or vehicles, and the array of external variables that influence emissions, ranging from temperature to driver behavior. In combination, these factors tend to limit the numbers of vehicles that can be included in a given study. Limited sample sizes in combination with high variability make emissions data challenging to interpret.

The collection is a research program, to be conducted by the Office of Transportation and Air Quality (OTAQ) in the Office of Air and Radiation (OAR). This study will be designed to develop and test novel screening, sampling and measurement procedures. These approaches promise to substantially reduce the cost of exhaust emissions measurement as well as to improve the accuracy of resulting estimates.

An innovative feature of this project is the use of roadside remote-sensing measurements to construct a pool of vehicles from which vehicles can be sampled for purposes of recruitment and measurement using portable emissions measurement systems (PEMS). The acquisition of remote-sensing measurements for hydrocarbons, carbon-monoxide, and oxides of nitrogen will provide an index of emissions for all vehicles prior to sampling and recruitment for more intensive measurement. The index is expected to facilitate recruitment of vehicles with an emphasis on rare sub-populations such as high-emitting vehicles, and provide a means to appropriately relate measured vehicles to the overall fleet.

Research questions for the project include: (1) Can remote-sensing be used as a reliable index of exhaust emissions across the range of emissions? (2) can portable instruments measure accurate emissions time series for very clean vehicles, such as Tier 2 (Bins 2, 3 or 5) or LEV-II (ULEV, SULEV)? (3) how can portable instruments be used to measure start emissions?, and (4) can the emissions index used for recruitment also serve as a means to estimate potential non-response bias?

We have collected remote-sensing measurements on approximately 35,000 vehicles, and from this pool, plan to recruit vehicles for measurement using PEMS. Participation in the program will be voluntary. The target population for the project will include light-duty cars and trucks certified to Tier 2 (Bins 5, 3 or 2) or an equivalent LEV-II standards (LEV, ULEV or SULEV), respectively.

Form Numbers: 2363.02.

Respondents/affected entities: private owners of light-duty cars and trucks.

Respondent's obligation to respond: voluntary.

Estimated number of respondents: 850 (total).

Frequency of response: one-time event.

Total estimated burden: 1,213 hours (per year). Burden is defined at 5 CFR 1320.3(b).

Total estimated cost: $33,247 (per year), includes $0.00 annualized capital or operation & maintenance costs.

Changes in Estimates: The total estimated respondent burden is expected to stay substantially the same compared with the ICR currently approved by OMB.

William Charmley,
Acting Director, Assessment and Standards Division.

[FR Doc. 2013-13600 Filed 6-6-13; 8:45 am]

BILLING CODE 6560-50-P